DEPARTMENT OF ENERGY

Federal Energy Regulatory Commission

[Docket No. ER05-1065-000]

Entergy Services, Inc.; Notice of Technical Conference and Extension of Time

June 17, 2005.

Entergy Services, Inc. (Entergy) is sponsoring a conference on its proposal to establish an Independent Coordinator of Transmission (ICT). Entergy recently filed this proposal and proposed tariff changes in Docket No. ER05-1065-000. FERC staff and intervenors will participate in the conference. The conference will be held on June 30 and July 1, 2005 in New Orleans, Louisiana. The times of the conference are 9 a.m. to 4:30 p.m. (Central time) on June 30, and 9 a.m. to 12 p.m. (Central time) on July 1. The Commission will provide further information on the conference (for example, specific location) in a subsequent notice. All interested persons may attend. Persons planning on attending the conference should send an e-mail to gjackso@entergy.com confirming their attendance no later than June 24, 2005, to facilitate the selection of appropriate conference facilities.

The conference will be transcribed. Transcripts will be available to view in the above-listed docket seven days after the conference.

So that the conference may be more productive, those participating in the conference are requested to distribute by June 24, 2005, any questions that they wish Entergy to address at the conference. Parties are requested to distribute any such questions to the Commission and to all parties in the proceeding.

On June 8, 2005, Entergy submitted a request for an extension of time for the filing of comments and protests to Entergy's proposal. Notice is hereby given that an extension of time is granted to and including July 22, 2005.

For additional information about Entergy's technical conference, please contact Sanjeev Jagtiani at (202) 502-8886; sanjeev.jagtiani@ferc.gov or Christy Walsh at (202) 502-6523; christy.walsh@ferc.gov.

Magalie R. Salas,
Secretary.

[FR Doc. E5-3302 Filed 6-24-05; 8:45 am]

BILLING CODE 6717-01-P